DEPARTMENT OF JUSTICE

Antitrust Division

Notice Pursuant to the National Cooperative Research and Production Act of 1993—Resilient Infrastructure + Secure Energy Consortium

Notice is hereby given that, on April 1, 2022, pursuant to Section 6(a) of the National Cooperative Research and Production Act of 1993, 15 U.S.C. 4301 et seq. (“the Act”), the Resilient Infrastructure + Secure Energy Consortium (“RISE”) has filed written notifications simultaneously with the Attorney General and the Federal Trade Commission disclosing changes in its membership. The notifications were filed for the purpose of extending the Act's provisions limiting the recovery of antitrust plaintiffs to actual damages under specified circumstances. Specifically, 3Rwater, Inc., Honolulu, HI; 60Hertz Energy, Anchorage, AK; Agentis Air LLC, Rockville, MD; Airbornway Corporation, Stamford, CT; Amionx, Inc., Carlsbad, CA; BlueDesal, Inc., Sausalito, CA; Breezy SEAS, Sherman, CT; Castor Energy, Sacramento, CA; CCG Consulting, Springfield, OH; Centrica, Ballston Lake, NY; ChloBis Water, Inc., Madison, WI; Clark, Richardson and Biskup Consulting Engineers, Inc., Saint Louis, MO; Clean Earth Rovers, Cincinnati, OH; Clean Energy Research Laboratory, Funabashi, JAPAN; Cleveland Electric Laboratories, Twinsburg, OH; Energy internet Corporation, San Jose, CA; Flux XII LLC, Madison, WI; Hydrogen Electro Systems, Inc., Boca Raton, FL; Image Insight, Inc., East Hartford, CT; Incepts, Pittsburgh, PA; inCitu, Brooklyn, NY; Intelligent Material Solutions, Princeton, NJ; IPgallery, Raanana, ISR; IRIS, New York, NY; JYA INFOTTECH, Pune, INDIA; Lamar University, Beaumont, TX; Leidos, Reston, VA; LeVanta Tech LLC, Monett, MO; Link Puerto Rico, Guaynabo, PR; NanoAffix Science, Wauwatosa, WI; Nettoyer Automotives Private Limited, Pune, INDIA; Parasanti, Inc., Dallas, TX; PAT LLC, Alameda, CA; PATHION Holdings, Inc., Campbell, CA; Pirl Technology, Inc., Frederick, MD; Polaron Analytics, Beavercreek, OH; PowerHouse, Danvers, MA; Puldy Resiliency Partners LLC, El Segundo, CA; Queens College, City University of New York, Queens, NY; Roboze, Inc., Houston, TX; Samiep Technology Innovations Private Limited, Maharashtra, INDIA; Service Robotics & Technologies, Inc., Springfield, VA; SimBlocks LLC, Orlando, FL; Slidesoft Technologies, Pleasant Hill, MO; Solar Jooce, Fairfield, OH; South Coast AI, Sherman, CT; Strogen Strategic Sustainability LLC, Washington, DC; Sustainable Water & Energy LLC, Estes Park, CO; Tellus Networked Sensor Solutions, Inc., Salt Lake City, UT; The Enterprise Center, Chattanooga, TN; The Mackinac Technology Company, Grand Rapids, MI; Vibrant Planet, PBC, Incline Village, NV; Voltai, Inc., Dartmouth, CANADA; and Wejo Limited, Manchester, UNITED KINGDOM, have been added as parties to this venture.

No other changes have been made in either the membership or planned activity of the group research project. Membership in this group research project remains open, and RISE intends to file additional written notifications disclosing all changes in membership.

On July 2, 2021, RISE filed its original notification pursuant to Section 6(a) of the Act. The Department of Justice published a notice in the Federal Register pursuant to Section 6(b) of the Act on August 23, 2021 (86 FR 47155).

The last notification was filed with the Department on November 5, 2021. A notice was published in the Federal Register pursuant to Section 6(b) of the Act on November 24, 2021 (86 FR 67085).

Suzanne Morris,
Chief, Premerger and Division Statistics, Antitrust Division.

[FR Doc. 2022-10217 Filed 5-11-22; 8:45 am]

BILLING CODE P